DEPARTMENT OF JUSTICE

Notice of Lodging Proposed Settlement

In accordance with Departmental Policy, 28 CFR 50.7, notice is hereby given that a proposed Settlement in the case of United States v. Gerke Excavating, Inc., Case Number 03-C 0074-C (W.D. Wis.), was lodged with the United States District Court for the Western District of Wisconsin on May 15, 2008.

This proposed Settlement concerns a complaint filed by the United States against Gerke Excavating, Inc., pursuant to sections 309(b) and (d) of the Clean Water Act (“CWA”), 33 U.S.C. 1319(b) and (d), for civil penalties and injunctive relief resulting from the discharge of pollutants into waters of the United States without a permit, in violation of sections 301(a) and 404 of the CWA, 33 U.S.C. 1311(a) and 1344. The proposed Settlement incorporates Gerke's previous agreement to an injunction and to restore the impacted areas, a stipulation that CWA jurisdiction exists over the impacted area, and a civil penalty.

The Department of Justice will accept written comments relating to this proposed Settlement for thirty (30) days from the date of publication of this Notice. Please address comments to Leslie K. Herje, Assistant United States Attorney, Civil Division Chief, P.O. Box 1585, Madison, Wisconsin 53701-1585, and refer to United States v. Gerke Excavating, Inc.

The proposed Settlement may be examined at the Clerk's Office, United States District Court for the Western District of Wisconsin, 120 N. Henry Street, Room 320, Madison, Wisconsin 53703. In addition, the proposed Settlement may be viewed at http://www.usdoj.gov/enrd/Consent_Decrees.html.

Leslie K. Herje,
Assistant United States Attorney.

[FR Doc. E8-11737 Filed 5-29-08; 8:45 am]

BILLING CODE 4410-15-M